DEPARTMENT OF TRANSPORTATION

Federal Aviation Administration

14 CFR Part 97

[Docket No. 30956; Amdt. No. 3589]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 23, 2014. The compliance date for each SIAP, associated Takeoff Minimums, and ODP is specified in the amendatory provisions.

The incorporation by reference of certain publications listed in the regulations is approved by the Director of the Federal Register as of May 23, 2014.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on April 25, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 29 MAY 2014

Chatom, AL, Roy Wilcox, RNAV (GPS) RWY 12, Orig

Chatom, AL, Roy Wilcox, RNAV (GPS) RWY 30, Orig

Chatom, AL, Roy Wilcox, Takeoff Minimums and Obstacle DP, Orig

Troy, AL, Troy Municipal At N. Kenneth Campbell Field, ILS OR LOC RWY 7, Amdt 10

Troy, AL, Troy Municipal At N. Kenneth Campbell Field, NDB RWY 7, Amdt 12

Troy, AL, Troy Municipal At N. Kenneth Campbell Field, RNAV (GPS) RWY 7, Amdt 2

Troy, AL, Troy Municipal At N. Kenneth Campbell Field, RNAV (GPS) RWY 14, Amdt 1

Troy, AL, Troy Municipal At N. Kenneth Campbell Field, RNAV (GPS) RWY 25, Amdt 2

Troy, AL, Troy Municipal At N. Kenneth Campbell Field, RNAV (GPS) RWY 32, Amdt 1

Troy, AL, Troy Municipal At N. Kenneth Campbell Field, Takeoff Minimums and Obstacle DP, Amdt 6

Prescott, AZ, Ernest A. Love Field, RNAV (GPS) Y RWY 3R, Orig

Prescott, AZ, Ernest A. Love Field, RNAV (RNP) Z RWY 3R, Amdt 1

Lake City, FL, Lake City Gateway, Takeoff Minimums and Obstacle DP, Amdt 1

Louisville, KY, Louisville Intl-Standiford Field, ILS OR LOC RWY 17L, Amdt 4A

Louisville, KY, Louisville Intl-Standiford Field, ILS OR LOC RWY 17R, Amdt 3A

Louisville, KY, Louisville Intl-Standiford Field, ILS OR LOC RWY 35R, ILS RWY 35R (SA CAT I), ILS RWY 35R (CAT II), ILS RWY 35R (CAT III), Amdt 4A

Louisville, KY, Louisville Intl-Standiford Field, LOC RWY 29, Orig-A

Louisville, KY, Louisville Intl-Standiford Field, RNAV (GPS) Y RWY 17L, Amdt 1A

Louisville, KY, Louisville Intl-Standiford Field, RNAV (GPS) Y RWY 17R, Amdt 1A

Norwood, MA, Norwood Memorial, Takeoff Minimums and Obstacle DP, Amdt 7

Boyne Falls, MI, Boyne Mountain, Takeoff Minimums and Obstacle DP, Amdt 4

Muskegon, MI, Muskegon County, ILS OR LOC RWY 32, Amdt 19

Muskegon, MI, Muskegon County, RNAV (GPS) RWY 32, Amdt 2

Muskegon, MI, Muskegon County, VOR-A, Amdt 21

Bemidji, MN, Bemidji Rgnl, ILS OR LOC RWY 31, Amdt 5A

Bemidji, MN, Bemidji Rgnl, ILS OR LOC/DME RWY 25, Amdt 1A

Bemidji, MN, Bemidji Rgnl, RNAV (GPS) RWY 13, Amdt 1

Bemidji, MN, Bemidji Rgnl, RNAV (GPS) RWY 25, Orig-B

Bemidji, MN, Bemidji Rgnl, RNAV (GPS) RWY 31, Amdt 1A

Magee, MS, Magee Muni, RNAV (GPS) RWY 18, Orig

Magee, MS, Magee Muni, RNAV (GPS) RWY 36, Orig

Magee, MS, Magee Muni, Takeoff Minimums and Obstacle DP, Orig

Greensboro, NC, Piedmont Triad Intl, NDB RWY 14, Amdt 15E, CANCELED

Kinston, NC, Kinston Rgnl Jetport at Stallings Fld, ILS OR LOC RWY 5, Amdt 11

Kinston, NC, Kinston Rgnl Jetport at Stallings Fld, RNAV (GPS) RWY 5, Amdt 3

Kinston, NC, Kinston Rgnl Jetport at Stallings Fld, RNAV (GPS) RWY 23, Amdt 3

Rutherfordton, NC, Rutherford Co—Marchman Field, LOC RWY 1, Amdt 3

Rutherfordton, NC, Rutherford Co—Marchman Field, RNAV (GPS) RWY 1, Amdt 2

Rutherfordton, NC, Rutherford Co—Marchman Field, RNAV (GPS) RWY 19, Amdt 1

Concord, NH, Concord Muni, Takeoff Minimums and Obstacle DP, Amdt 4

Jaffrey, NH, Jaffrey Airport-Silver Ranch, RNAV (GPS)-B, Orig

Jaffrey, NH, Jaffrey Airport-Silver Ranch, RNAV (GPS)-C, Orig

Jaffrey, NH, Jaffrey Airport-Silver Ranch, Takeoff Minimums and Obstacle DP, Amdt 1

Jaffrey, NH, Jaffrey Airport-Silver Ranch, VOR-A, Amdt 8

Lakewood, NJ, Lakewood, Takeoff Minimums and Obstacle DP, Amdt 2

Newark, NJ, Newark Liberty Intl, GLS RWY 22R, Orig-D

Newark, NJ, Newark Liberty Intl, ILS OR LOC RWY 4L, ILS RWY 4L (SA CAT I), ILS RWY 4L (SA CAT II), Amdt 15

Newark, NJ, Newark Liberty Intl, ILS OR LOC RWY 22R, Amdt 6

Newark, NJ, Newark Liberty Intl, RNAV (GPS) RWY 4L, Amdt 2B

Princeton/Rocky Hill, NJ, Princeton, Takeoff Minimums and Obstacle DP, Amdt 3

Robbinsville, NJ, Trenton-Robbinsville, Takeoff Minimums and Obstacle DP, Amdt 2

Sussex, NJ, Sussex, Takeoff Minimums and Obstacle DP, Amdt 3

East Hampton, NY, East Hampton, Takeoff Minimums and Obstacle DP, Amdt 3

Millbrook, NY, Sky Acres, Takeoff Minimums and Obstacle DP, Amdt 2

New York, NY, La Guardia, RNAV (GPS) Y RWY 4, Amdt 3

Potsdam, NY, Potsdam Muni/Damon Fld/, NDB RWY 24, Amdt 5

Prague, OK, Prague Muni, GPS RWY 17, Orig, CANCELED

Prague, OK, Prague Muni, RNAV (GPS) RWY 17, Orig

Prague, OK, Prague Muni, RNAV (GPS)-A, Orig

Prague, OK, Prague Muni, Takeoff Minimums and Obstacle DP, Orig

Pottstown, PA, Heritage Field, GPS RWY 10, Orig, CANCELED

Pottstown, PA, Heritage Field, GPS RWY 28, Orig-A, CANCELED

Pottstown, PA, Heritage Field, LOC RWY 28, Amdt 3

Pottstown, PA, Heritage Field, RNAV (GPS) RWY 28, Orig

Pottstown, PA, Heritage Field, RNAV (GPS)-A, Orig

Pottstown, PA, Heritage Field, VOR/DME-A, Amdt 4

Reading, PA, Reading Rgnl/Carl A Spaatz Field, Takeoff Minimums and Obstacle DP, Amdt 5

Brookings, SD, Brookings Rgnl, RNAV (GPS) RWY 12, Orig

Cleveland, TN, Cleveland Rgnl Jetport, RNAV (GPS) RWY 3, Amdt 1

Cleveland, TN, Cleveland Rgnl Jetport, RNAV (GPS) RWY 21, Amdt 1

Cleveland, TN, Cleveland Rgnl Jetport, Takeoff Minimums and Obstacle DP, Amdt 1

Tazewell, TN, New Tazewell Muni, RNAV (GPS) RWY 7, Orig

Tazewell, TN, New Tazewell Muni, Takeoff Minimums and Obstacle DP, Orig

Waverly, TN, Humphreys County, NDB RWY 21, Amdt 3C

Houston, TX, George Bush Intercontinental/Houston, RNAV (RNP) Y RWY 8R, Amdt 1

Orange, VA, Orange County, RNAV (GPS) RWY 8, Orig

Orange, VA, Orange County, RNAV (GPS) RWY 26, Orig

Orange, VA, Orange County, Takeoff Minimums and Obstacle DP, Amdt 1

Orange, VA, Orange County, VOR/DME-A, Amdt 3

Philippi, WV, Philippi/Barbour County Rgnl, RNAV (GPS) RWY 8, Orig, CANCELED

[FR Doc. 2014-11558 Filed 5-22-14; 8:45 am]

BILLING CODE 4910-13-P